DEPARTMENT OF HEALTH AND HUMAN SERVICES

National Institutes of Health

Center for Scientific Review; Amended Notice of Meeting

Notice is hereby given of a change in the meeting of the Center for Scientific Review Special Emphasis Panel, June 30, 2005, 8:30 a.m. to June 30, 2005, 3 p.m., Hyatt Regency Bethesda, One Bethesda Metro Center, 7400 Wisconsin Avenue, Bethesda, MD 20814 which was published in the Federal Register on May 31, 2005, 70 FR 30958-30961.

The meeting title has been changed to “Small Business: Digestive Sciences”. The meeting is closed to the public.

Dated: June 1, 2005.
LaVerne Y. Stringfield,
Director, Office of Federal Advisory Committee Policy.

[FR Doc. 05-11567 Filed 6-9-05; 8:45 am]

BILLING CODE 4140-01-M